FEDERAL HOUSING FINANCE AGENCY

12 CFR Part 1231

RIN 2590-AA08

Golden Parachute Payments and Indemnification Payments

AGENCY: Federal Housing Finance Agency.

ACTION: Correcting Amendments.

SUMMARY: This document contains a correction to §§ 1231.3 and 1231.4 of the interim final regulation concerning Golden Parachute Payments and Indemnification Payments published in the Federal Register on Tuesday, September 16, 2008. These sections should read “Reserved.”

DATES: Effective Date: September 19, 2008.

FOR FURTHER INFORMATION CONTACT: Alfred M. Pollard, General Counsel (OFHEO), telephone (202) 414-3788 or Christopher Curtis, General Counsel (FHFB), telephone (202) 408-2802 (not toll-free numbers), Federal Housing Finance Agency, Fourth Floor, 1700 G Street, NW., Washington, DC 20552. The telephone number for the Telecommunications Device for the Deaf is (800) 877-8339.

Need for Correction

As published on September 16, 2008, the interim final regulation contained clerical errors, which these amendments correct.

List of Subjects in 12 CFR Part 1231

Golden Parachutes, Government-Sponsored Enterprises, Indemnification.

Accordingly, part 1231 of Title 12 CFR Chapter XII is corrected by making the following correcting amendments:

PART 1231—GOLDEN PARACHUTE PAYMENTS AND INDEMNIFICATION PAYMENTS

1. The authority citation for part 1231 continues to read as follows:

Authority: 12 U.S.C. 4518(e).

§ 1231.3 [Reserved]

2. Section 1231.3 is removed and reserved.

§ 1231.4 [Reserved]

3. Section 1231.4 is removed and reserved.

Dated: September 15, 2008.
James B. Lockhart, III,
Director, Federal Housing Finance Agency.

[FR Doc. E8-21903 Filed 9-16-08; 11:15 am]

BILLING CODE 8070-01-P